DEPARTMENT OF THE INTERIOR

National Park Service

National Register of Historic Places; Notification of Pending Nominations and Related Actions

Nominations for the following properties being considered for listing or related actions in the National Register were received by the National Park Service before April 22, 2006. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by May 17, 2006.

John W. Roberts,
Acting Chief, National Register/National Historic Landmarks Program.

Alabama

Calhoun County

Profile Cotton Mills Historic District, Alexandria St., A St., H St., and D St., Jacksonville, 06000436

Colbert County

Muscle Shoals Sound Studio, 3614 Jackson Hwy., Sheffield, 06000437

Jefferson County

Woodlawn Highlands Historic District, Bounded by 5th Ave. S, Crestwood Blvd., and 56th and 61st. Sts. S, Birmingham, 06000438

Montgomery County

Winter Place, 454 S. Goldwaite St., Montgomery, 06000439

Alaska

Southeast Fairbanks Borough-Census Area F.E. Company Dredge No. 4, 0.25 mi. Chicken Airport Rd., mi. 66.4 Taylor Hwy, Chicken, 06000435

Arizona

Maricopa County

Medlock Place Historic District, Roughly bounded by Missouri Ave., Camelback Rd., 7th Ave. and Central Ave. Phoenix, 06000434

Arkansas

Clay County

Piggott National Guard Armory, 775 E. Main St., Piggott, 06000440

Desha County

McGehee National Guard Armory, 1610 S. First St., McGehee, 06000441

Florida

Hillsborough County

Roosevelt Elementary School, 3205 S. Ferdinand Ave., Tampa, 06000443

Martin County

Seminole Inn, 15885 SE Warfield Blvd., Indiantown, 06000442

Georgia

Cobb County

Moore, Tarleton, House, 4784 Northside Dr., Acworth, 06000453

Illinois

Cook County

Krause Music Store, 4611 N. Lincoln Ave., Chicago, 06000452

Union Park Congregational Church and Carpenter Chapel, 1613 W. Washington Blvd., Chicago, 06000446

Henry County

Kewanee Public Library, (Illinois Carnegie Libraries MPS) 102 S Tremont, Kewanee, 06000447

Kankakee County

Downtown Momence Historic District, Roughly Washington St., from N. Locust to Pine and Dixie Hwy., from 2nd to River, Momence, 06000449

Durham—Perry Farmstead, 459 N. Kennedy Dr., Bourbonnais, 06000445

Sangamon County

Jennings Ford Automobile Dealership, 431 S. Fourth St., Springfield, 06000450

Will County

McGovney—Yunker Farmstead, 10824 LaPorte Rd., Mokena, 06000448

Iowa

Woodbury County

Swedish Evangelical Lutheran Augustana Church, 600 Court St., Sioux City, 06000444

Maryland

Anne Arundel County

Linthicum Heights Historic District, Roughly bounded by Camp Meade Rd., Homewood Rd., Twin Oaks Rd. Locust Grove Rd. and Forest View Rd., Linthicum, 06000451

Minnesota

Fillmore County

Milwaukee Elevator, (Grain Elevator Design in Minnesota MPS), Fillmore Street and Root River State Trail, Preston, 06000454

St. Louis County

Duluth Commercial Historic District, Superior and 1st bet. 4th Ave. W and 4th Ave. E, Duluth, 06000455

South Dakota

Clay County

Bluff View Cemetery Chapel, 0.2 mi. S of jct. of Crawford Rd. and Pinehurst Dr., Vermillion, 06000458

Fall River County

Bartlett—Myers Building, 506½ 2nd Ave., Edgemont, 06000457

Hughes County

Hilger Block, 361 S. Pierre, Pierre, 06000456

Miner County

Coughlin House, 260 W. Main St., Carthage, 06000460

Minnehaha County

Tuthill, John W., Lumber Company, 311 E. 8th St., Sioux Falls, 06000459

Union County

Swanson House, 30572 483rd Ave., Alcester, 06000461

A request for REMOVAL has been made for the following resource:

South Dakota

Lawrence County

Sunderland, James, House 711 Canyon, Spearfish, 90001648

[FR Doc. 06-4126 Filed 5-1-06; 8:45 am]

BILLING CODE 4312-51-P